DEPARTMENT OF VETERANS AFFAIRS

Privacy Act of 1974, Addition of Routine Use to System of Records Compensation, Pension, Education and Rehabilitation Records—VA

AGENCY: Department of Veterans Affairs.

ACTION: Notice; addition of routine use.

SUMMARY: As required by the Privacy Act of 1974, 5 U.S.C. 552a(e)(4), notice is hereby given that the Department of Veterans Affairs (VA) is amending the system of records “VA Compensation, Pension, Education and Rehabilitation Records—VA” (58VA21/22) by adding a new routine use to the system to disclose identifying information on VA beneficiaries who have been adjudicated incompetent to the Attorney General or his/her designee for entry into the National Instant Criminal Background Check System (NICS).

DATES: If no public comment is received during the 30-day review period allowed for public comment, or unless otherwise published in the Federal Register by VA, the amended system of records is effective July 13, 2005.

ADDRESSES: Interested persons are invited to submit written comments, suggestions, or objections regarding the proposed amended routine use statement to the Director, Regulations Management (00REG1), Department of Veterans Affairs, 810 Vermont Ave., NW., Room 1068, Washington, DC 20420; or fax to (202) 273-9026; or e-mail to VAregulations@mail.va.gov. All relevant material received before July 13, 2005, will be considered. All written comments received will be available for public inspection in the Office of Regulation Policy and Management, Room 1063B, between the hours of 8 a.m. and 4:30 p.m., Monday through Friday (except holidays). Please call (202) 273-9515 for an appointment.

FOR FURTHER INFORMATION CONTACT: Pamela C. Liverman, Consultant, Compensation and Pension Service, Department of Veterans Affairs, 810 Vermont Ave., NW., Washington, DC 20420, (202) 273-7228.

SUPPLEMENTARY INFORMATION: The Brady Handgun Violence Prevention Act, Pub. L. 103-159, mandated the establishment of the National Instant Criminal Background Check System (NICS). The Brady Act authorizes the Attorney General to secure information from Federal agencies on seven categories of persons who are ineligible to receive firearms under the Criminal Code, 18 U.S.C. 922(g) and (n), for entry into the NICS. The only relevant category for purposes of this routine use is “persons adjudicated as mentally incompetent.” The Brady Act requires Federal agencies to furnish the information on these individuals to NICS upon request of the Attorney General. VA proposes to add a new routine use to 58VA21/22 under which to disclose identifying information on VA beneficiaries who have been adjudicated incompetent under 38 CFR 3.353 to the Attorney General or his/her designee for entry into the NICS. VA has determined that the release of information for this purpose is appropriate and necessary because the Brady Act requires VA to furnish such information to the NICS after receiving a request from the Attorney General.

An altered system of records report and a copy of the revised system notice have been sent to the House of Representatives Committee on Government Reform and Oversight, the Senate Committee on Governmental Affairs, and the Office of Management and Budget (OMB), as required by 5 U.S.C. 552a(r) and guidelines issued by OMB (65 FR 77677, December 12, 2000).

The proposed new routine use number 64 will be added to the system of records entitled “VA Compensation, Pension, Education and Rehabilitation Records—VA” (58VA21/22), as published at 41 FR 924 (March 3, 1976), and last amended at 66 FR 47725 (September 13, 2001), with other amendments as cited therein.

Approved: June 7, 2005.
R. James Nicholson,
Secretary of Veterans Affairs.

Notice of Amendment to System of Records

The system identified as 58VA21/22 “Compensation, Pension, Education, and Rehabilitation Records,” published at 41 FR 924 (March 3, 1976), and last amended at 66 FR 47725 (September 13, 2001), with other amendments as cited therein, is revised to add a new routine use number 64 as follows:

58VA21/22

System name:

Compensation, Pension, Education and Rehabilitation Records-VA.

* * * * *

64. The name and address of a VA beneficiary, and other information as is reasonably necessary to identify such beneficiary, who has been adjudicated as incompetent under 38 CFR 3.353, may be provided to the Attorney General of the United States or his/her designee, for use by the Department of Justice in the National Instant Criminal Background Check System (NICS) mandated by the Brady Handgun Violence Prevention Act, Pub. L. 103-159.

* * * * *

[FR Doc. E5-3046 Filed 6-10-05; 8:45 am]

BILLING CODE 8320-01-P